DEPARTMENT OF DEFENSE

Department of the Air Force

Record of Decision—Barry M. Goldwater Range Integrated Natural Resource Management Plan Environmental Impact Statement

ACTION: Notice of Availability (NOA).

SUMMARY: The United States Air Force and the United States Marine Corps completed Barry M. Goldwater Range Integrated Natural Resource Management Plan Environmental Impact Statement (EIS) by signing a Record of Decision (ROD). The ROD is based on matters discussed in the Final EIS, inputs from the public and regulatory agencies, and other relevant factors. The Final EIS was made available on May 26, 2006 through a notice in the Federal Register (Volume 71, Number 102) with a waiting period ending June 26, 2006. The ROD documents the decisions of the Air Force and the Marine Corps as analyzed in the Final EIS, in furtherance of the Military Lands Withdrawal Act of 1999 (Pub. L. 106-65) and the Sikes Act (16 U.S.C. 670) prescribing a management plan for the natural resources present on the BMGR.

FOR FURTHER INFORMATION CONTACT: Mr. Jack Bush, Headquarters Air Force, 703-604-5264 or Ms. Mary D. Hassell, Headquarters Marine Corps, 703-695-8240, ext 3339.

Bao-Anh Trinh,
Air Force Federal Register Liaison Officer.

[FR Doc. E7-6136 Filed 4-2-07; 8:45 am]

BILLING CODE 5001-05-P